INTERNATIONAL TRADE COMMISSION

[USITC SE-08-021]

Government in the Sunshine Act Meeting Notice

Agency Holding the Meeting: United States International Trade Commission.

Time and Date: August 7, 2008 at 11 a.m.

Place: Room 101, 500 E Street, SW., Washington, DC 20436, Telephone: (202) 205-2000.

Status: Open to the public.

Matters to be Considered:

1. Agenda for future meetings: None.

2. Minutes.

3. Ratification List.

4. Inv. Nos. 701-TA-457 and 731-TA-1153 (Preliminary) (Certain Tow-Behind Lawn Groomers and Parts Thereof from China)—briefing and vote. (The Commission is currently scheduled to transmit its determinations to the Secretary of Commerce on or before August 8, 2008; Commissioners' opinions are currently scheduled to be transmitted to the Secretary of Commerce on or before August 15, 2008.)

5. Outstanding action jackets: None.

In accordance with Commission policy, subject matter listed above, not disposed of at the scheduled meeting, may be carried over to the agenda of the following meeting.

By order of the Commission.
Issued: July 29, 2008.
William R. Bishop,
Hearings and Meetings Coordinator.

[FR Doc. E8-17754 Filed 7-31-08; 8:45 am]

BILLING CODE 7020-02-P